DEPARTMENT OF HEALTH AND HUMAN SERVICES

Agency for Healthcare Research and Quality

Agency Information Collection Activities: Proposed Collection; Comment Request; Correction

AGENCY: Agency for Healthcare Research and Quality (AHRQ)

ACTION: Notice, correction.

SUMMARY: The Agency for Healthcare Research and Quality published a document in the Federal Register of May 20, 2019 concerning the impact and use of Evidence-based Practice Center (ECP) Program evidence reviews. This document contained an incorrect deadline date.

FOR FURTHER INFORMATION CONTACT: Carla Ladner at 301-427-1205 or AHRQ_Fed_Register@ahrq.hhs.gov.

Correction

In the Federal Register of May 20, 2019, in FR Doc 2019-10451, on page 1, line 17, correct the DATES caption to read:

DATES: Comments must be received by July 22, 2019.

Dated: May 24, 2019.
Carla M. Ladner,
Correspondence Analyst/Federal Register Liaison—AHRQ.

[FR Doc. 2019-11289 Filed 5-29-19; 8:45 am]

BILLING CODE 4160-90-P